DEPARTMENT OF LABOR

Employment and Training Administration

[TA-W-37,251 and TA-W-37,703]

Beloit Millpro Service Center, Hattiesburg, MS and Beloit Manhattan, Neenah, WI; Notice of Termination of Investigation

Pursuant to Section 221 of the Trade Act of 1974, investigations were initiated on January 18, 2000 and May 22, 2000, in response to a worker petitions which were filed on behalf of workers at Beloit Millpro Service Center, Hattiesburg, Mississippi (TA-W-37,251) and Beloit Manhattan, Neenah, Wisconsin (TA-W-37,703), respectively.

During the investigations, it was discovered that both facilities are under existing investigations. The workers are currently under the following investigations: Beloit Millpro Service Center, Hattiesburg, Mississippi (TA-W-37,562G) and Beloit Manhattan, Neenah, Wisconsin (TA-W-37,562J).

Consequently further investigations in these cases (TA-W-37,251 and TA-W-37,703) would serve no purpose, and the investigations have been terminated.

Signed in Washington, DC this 15th day of June, 2000.
Grant D. Beale,
Program Manager, Division of Trade Adjustment Assistance.

[FR Doc. 00-16495 Filed 6-28-00; 8:45 am]

BILLING CODE 4510-30-M